DEPARTMENT OF DEFENSE

Office of the Secretary

[Docket ID: DoD-2024-HA-0055]

Submission for OMB Review; Comment Request

AGENCY: Office of the Assistant Secretary of Defense for Health Affairs (OASD(HA)), Department of Defense (DoD).

ACTION: 30-Day information collection notice.

SUMMARY: The DoD has submitted to the Office of Management and Budget (OMB) for clearance the following proposal for collection of information under the provisions of the Paperwork Reduction Act.

DATES: Consideration will be given to all comments received by October 29, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: SCORE™ Well-Being and Engagement Survey; OMB Control Number 0720-SCOR.

Type of Request: New.

Number of Respondents: 6,873.

Responses per Respondent: 1.

Annual Responses: 6,873.

Average Burden per Response: 15 minutes.

Annual Burden Hours: 1,718.

Needs and Uses: The 2001 National Defense Authorization Act addresses patient safety in military and veteran's healthcare and requires an examination of systemic factors which lead to medical error. The Safety Culture, Operational reliability, Resilience/burnout, and Engagement (SCORE™) Survey, a validated commercial assessment tool for patient safety that engages all levels of staff from executive leaders to frontline teams, is a response to this legislation. The SCORE™ is conducted at Defense Health Network National Capital Region military medical treatment facilities for all staff members to provide data necessary for driving cultural change.

Affected Public: Federal government; individuals or households.

Frequency: As required.

Respondent's Obligation: Voluntary.

DOD Clearance Officer: Mr. Reginald Lucas.

Dated: September 25, 2025.
Stephanie J. Bost,
Alternate OSD Federal Register Liaison Officer, Department of Defense.

[FR Doc. 2025-18822 Filed 9-26-25; 8:45 am]

BILLING CODE 6001-FR-P